DEPARTMENT OF THE INTERIOR

Bureau of Land Management

(OR-931-6320 DB; GP1-0115)

Oregon Seed Orchard; Environmental Impact Statements, Notice of Intent

AGENCY: Bureau of Land Management, U.S. Department of the Interior.

ACTION: Revised Notice; intent to prepare for three environmental impact statements.

SUMMARY: On March 26,1999, the Department of Interior, Bureau of Land Management, (BLM) published a Notice of Intent to prepare a consolidated draft and final environmental impact statement (EIS) for proposed pest management programs at each of our four Oregon Seed Orchards (See Federal Register/Vol. 64, No. 58/Friday, March 26, 1999/ Notices, page 14747-14748). To improve efficiency and provide for more site specific management prescriptions, including pest management and fertilization programs, the Salem, Eugene and Medford BLM Districts will prepare separate draft and final EISs. The Seed Orchards are: the Horning Seed Orchard (Salem District) near Colton, in Clackamas County Oregon; the Tyrrell Seed Orchard (Eugene District) near Lorane, in Lane County, Oregon; the Sprague Seed Orchard (Medford District) near Merlin, in Josephine County, Oregon and the Provolt Seed Orchard (Medford District) near Grants Pass, in Jackson and Josephine Counties, Oregon.

The BLM Salem, Eugene and Medford Districts invite written comments on the scope of the analysis. In addition, the Salem, Eugene and Medford Districts will give notice of the environmental analysis and decision making process that will occur on the proposed action to ensure that the interested and affected public has information concerning how they may participate and contribute to the final decision. These notices will be published in local newspapers and mailed to known persons or groups of interest in the local areas.

Each of the four seed orchards is also subject to land use allocations and management direction as defined in the 1995 Resource Management Plan (RMP) for the applicable District. Since the seed orchard management plans may include one or more alternatives which would amend portions of the applicable RMP, the planning process will also be completed in conformance with 43 CFR 1610.2 and 1610.5-5. Any proposed RMP amendments would be expected to clarify long-term management direction for the seed orchard lands, support new or renewed protective lands withdrawals and describe any conditions for discretionary land uses which may be compatible with seed orchard management objectives.

DATES: Previous written comments received by May 10, 1999, have been forwarded to appropriate seed orchards. Additional comments concerning the scope of the analysis should be received in writing by April 19, 2001, to ensure timely consideration.

ADDRESSES: Send written comments to: Jim Hallberg, Orchard Manager, Horning Seed Orchard, 27004 S. Sheckly Road, Colton, OR 97017; Glenn Miller, Orchard Manager, Tyrrell Seed Orchard, P. O. Box 121 (26350 Siuslaw River Road), Lorane, OR 97451; Harvey Koester, Orchard Manager, Sprague Seed Orchard, 1980 Russell Road, Merlin, OR 97532 and Provolt Seed Orchard, 14171 Williams Highway, Grants Pass, OR 97527.

FOR FURTHER INFORMATION CONTACT: Jim Hallberg, Orchard Manager, Horning Seed Orchard, (503) 630-8406; Glenn Miller, Orchard Manager, Tyrrell Seed Orchard, (541) 683-6445; and Harvey Koester, Orchard Manager, Sprague and Provolt Seed Orchards (541) 618-2401.

SUPPLEMENTARY INFORMATION: The BLM Seed Orchards are managed primarily for the production of native tree and grass seed. The seed is used to produce seedlings for reforestation and restoration on BLM lands in Oregon and for use in cooperative orchard efforts. The primary objective of the orchards is to produce seed of high quality and sufficient quantity to meet the needs of the BLM and of their cooperative partnerships. Use of integrated pest management and fertilization technology and products is necessary to achieve this goal.

There are grass beds, greenhouses, and tree orchards (Douglas fir, sugar pine, western hemlock, noble fir, western red cedar and western white pine) at the Horning Seed Orchard; grass beds and tree orchards (Douglas fir, Port Orford cedar and multi-species orchards) at the Tyrrell Seed Orchard; grass beds, greenhouses, and tree orchards (sugar pine and ponderosa pine) at the Sprague Seed Orchard; and grass and hardwood beds and tree orchards (Douglas fir and sugar pine) at the Provolt Seed Orchard.

The BLM Districts will conduct an environmental analysis to determine the type of pest management and fertilization programs to be used at the Horning, Tyrrell, Sprague, and Provolt Seed Orchards in western Oregon, to produce seed and seedlings for the BLM and its cooperators in Oregon. The pest management practices which will be analyzed include, but are not limited to, control of unwanted vegetation by mechanical and chemical methods; control of diseases using sanitation, cultural techniques, biological control organisms, and fungicides; control of insect pests with biological and chemical insecticides, cultural and mechanical methods, and use of sanitation; and control of animal pests through mechanical and preventative measures. Fertilization practices include mechanical broadcast and hand application methods.

In preparing the EISs, the BLM Districts will identify and consider a range of alternative pest management and fertilization programs. One alternative in each EIS will contain a “no action” alternative. Another alternative will be a pest management program without the use of chemical pesticides and fertilizers. Other alternatives will include pest management programs comprised of various combinations of control methods.

Public participation will be especially important at several points during the analysis. The first point is during the scoping process (40 CFR 1501.7), which includes:

1. Defining the scope of the analysis and nature of the decision to be made.

2. Identifying the issues and determining the significant issues for consideration and analysis within the environmental impact statement.

3. Defining the proper make-up of the interdisciplinary team.

4. Exploring possible alternatives.

5. Identifying potential environmental effects.

6. Determining potential cooperating agencies.

7. Identifying groups or individuals interested or affected by the decision.

The BLM Districts will be seeking information, comments, and assistance from federal, state, and local agencies and other individuals or organizations interested in or affected by the proposed action.

Public participation will be solicited by person to person contact, and/or by mail to known interested and affected publics and key contacts regarding scope of the analysis. In addition, news releases will be used to give the public general notice. Input from interested people and organizations will be used in preparation of the draft EIS. Comments, including names and street addresses of respondents, will be available for public review at the seed orchards during regular hours (7:30 a.m. to 4:00 p.m.), Monday through Friday, except holidays, and may be published as part of the EIS or other related documents. Individual respondents may request confidentiality. If you wish to withhold your name or address from public review or from disclosure under the Freedom of Information Act, you must state this prominently at the beginning of your written comment. Such requests will be honored to the extent allowed by law. All submissions from organizations or businesses, and from individuals identifying themselves as representatives or officials of organization or businesses, will be made available for public inspection in their entirety.

The draft EISs are expected to be filed with the Environmental Protection Agency (EPA) and available for public review in the fall 2001 (for the Horning Seed Orchard), and later for Tyrrell, Sprague and Provolt Seed Orchards. At that time, EPA will publish a notice of availability of the draft EIS in the Federal Register. The Bureau will also publish a notice of availability of the EIS in the Federal Register and local media. The document will be mailed to persons and groups requesting copies and will be available on the applicable District websites. Districts' website addresses are: www.or.blm.gov/salem for Salem District, www.edo.blm.gov/nepa for Eugene District, and www.or.blm.gov/medford for Medford District.

The comment period on the draft EIS will be 45 days from the date the EPA's notice of availability as it appears in the Federal Register. It is very important that those interested in the proposed action participate at that time. To be most helpful, comments on the draft EIS should be as specific as possible and may address the adequacy of the statement or the merits of the alternatives discussed (see Council on Environmental Quality Regulations for implementing the procedural provisions of the National Environmental Policy Act 40 CFR 1503.3).

In addition, federal court decisions have established that reviewers of draft EISs must structure their participation in the environmental review of the proposal so that it is meaningful and alerts an agency to the reviewers' position and contentions. Vermont Yankee Nuclear Power Corp. v. NRDC, 435 U.S. 519, 553 (1978). Environmental objections that could have been raised at the draft stage may be waived if not raised until after completion of the final EIS (City of Angoon v. Hodel, 803 F.2d 1016, 1022 (9th Circuit, 1986) and Wisconsin Heritages, Inc. v. Harris, 490 F. Supp. 1334, 1338 (E.D. Wis. 1980)). The reason for this is to ensure that substantive comments and objections are made available to the BLM at a time when it can seriously consider and respond to them in the final.

Following the comment period on the draft EIS, substantive comments will be analyzed, considered, and responded to by the BLM Districts in preparing the final EIS. The final EIS is scheduled to be completed in spring 2002 for the Horning Seed Orchard, and later for Tyrrell, Sprague and Provolt Seed Orchards.

The responsible officials will consider the comments and responses; environmental consequences discussed in the EIS; and applicable laws, regulations, and policies in making a decision regarding this proposal. The decision and rationale for the decision will be documented in the Record of Decision. Each District will prepare a Record of Decision for its seed orchard.

The responsible officials for each of these seed orchards are as follows:

Denis Williamson, Salem District Manager (Horning Seed Orchard), Julia Dougan, Eugene District Manager (Tyrrell Seed Orchard), and Ronald Wenker, Medford District Manager (Sprague and Provolt Seed Orchards).

Dated: March 20, 2001.
Charles E. Wassinger,
Associate State Director.

[FR Doc. 01-7803 Filed 3-28-01; 8:45 am]

BILLING CODE 4310-33-P